COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: November 7, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

8105-LL-S04-8762—Bag, Polyethylene, PCB Waste, 24W″ x 10D″ x 36L″, Opaque White

8105-LL-S04-9869—Bag, Polyethylene, PCB Waste, 24W″ x 10D″ x 48L″, Opaque White

Designated Source of Supply: Open Door Center, Valley City, ND

Contracting Activity: DLA MARITIME—PUGET SOUND, BREMERTON, WA

Service(s)

Service Type: Mailroom Operation

Mandatory for: Federal Deposit Insurance Corporation: 1910 Pacific Avenue, Dallas, TX

Designated Source of Supply: Dallas Lighthouse for the Blind, Inc., Dallas, TX

Contracting Activity: HEALTH AND HUMAN SERVICES, DEPARTMENT OF, DEPT OF HHS

Service Type: Property Management Services

Mandatory for: National Park Service, Horace M. Albright Training Center, Grand Canyon, AZ 1 Albright Avenue, Grand Canyon, AZ

Designated Source of Supply: Trace, Inc., Boise, ID

Contracting Activity: NATIONAL PARK SERVICE, WASO WCP CONTRACTING

Michael R. Jurkowski,
Acting Director, Business Operations.

[FR Doc. 2021-22060 Filed 10-7-21; 8:45 am]

BILLING CODE 6353-01-P